DEPARTMENT OF AGRICULTURE

Animal and Plant Health Inspection Service

[Docket No. APHIS-2016-0031]

Environmental Impact Statement; Fruit Fly Cooperative Control Program: Record of Decision

AGENCY: Animal and Plant Health Inspection Service, USDA.

ACTION: Notice.

SUMMARY: This notice advises the public of the Animal and Plant Health Inspection Service's record of decision for the final programmatic environmental impact statement titled “Fruit Fly Cooperative Control Program.”

DATES: An official of the Animal and Plant Health Inspection Service-Plant Protection and Quarantine signed the record of decision on April 22, 2019.

ADDRESSES: You may read the final environmental impact statement and record of decision in our reading room. The reading room is located in room 1141 of the USDA South Building, 14th Street and Independence Avenue SW, Washington, DC. Normal reading room hours are 8 a.m. to 4:30 p.m., Monday through Friday, except holidays. To be sure someone is there to help you, please call (202) 799-7039 before coming. The record of decision, final environmental impact statement, and supporting information may also be viewed at http://www.regulations.gov/#!docketDetail;D=APHIS-2016-0031. To obtain copies of the documents, contact the person listed under FOR FURTHER INFORMATION CONTACT.

FOR FURTHER INFORMATION CONTACT: For questions related to the Fruit Fly Eradication Program, contact Dr. Richard Johnson, APHIS Fruit Fly Cooperative Control Program Manager, PPQ, APHIS, 4700 River Road, Unit 26, Riverdale, MD 20737; Richard.N.Johnson@usda.gov; (301) 851-2109. For questions related to the environmental impact statement, contact Dr. Jim Warren, Environmental Protection Specialist, Environmental and Risk Analysis Services, PPD, APHIS, 4700 River Road, Unit 149, Riverdale, MD 20737; Jim.E.Warren@usda.gov; (202) 316-3216.

SUPPLEMENTARY INFORMATION: On August 12, 2016, we published in the Federal Register (81 FR 53398-53399) a notice ¹ of intent to prepare a programmatic environmental impact statement (EIS) to analyze and examine the environmental effects of control alternatives available to the agency, including a no action alternative, for the Fruit Fly Cooperative Control Program. The notice solicited comments from the public for additional alternatives and environmental impacts that should be examined further in the EIS. We invited comments through September 26, 2016, and received seven comments during the 45-day comment period.

¹ The notices, comments, draft and final EIS, record of decision, and supporting documents for this docket can be viewed at http://www.regulations.gov/#!docketDetail;D=APHIS-2016-0031.

On April 27, 2018, the U.S. Environmental Protection Agency (EPA) published a notice of availability for the draft EIS in the Federal Register (83 FR 18554). APHIS made the draft EIS available and invited public comment through June 11, 2018. Our responses to the two comments received are in the final EIS. On November 16, 2018, the EPA published a notice of availability of the final EIS in the Federal Register (83 FR 57726). APHIS published the final EIS with a review period of 30 days ending December 17, 2018.

The National Environmental Policy Act (NEPA) implementing regulations in 40 CFR 1506.10 require a minimum 30-day waiting period between the time a final EIS is published and the time an agency makes a decision on an action covered by the EIS. APHIS has reviewed the final EIS and comments received during the 30-day waiting period and has concluded that the final EIS fully analyzes the issues covered by the draft EIS and addresses the comments and suggestions submitted by commenters. This notice advises the public that the waiting period has elapsed, and APHIS has issued a record of decision (ROD) to implement the preferred alternative described in the final EIS.

The ROD has been prepared in accordance with: (1) NEPA, as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 3rd day of July 2019.
Kevin Shea,
Administrator, Animal and Plant Health Inspection Service.

[FR Doc. 2019-14539 Filed 7-8-19; 8:45 am]

BILLING CODE 3410-34-P